FEDERAL COMMUNICATIONS COMMISSION

[DA 01-105]

Emergency Alert System National Advisory Committee; Meeting

AGENCY: Federal Communications Commission.

ACTION: Notice.

SUMMARY: On January 18, 2001, the Commission released a public notice announcing the February 23, 2001, meeting and agenda of the Emergency Alert System National Advisory Committee (NAC). The meeting will serve to advise the Commission on Emergency Alert System issues.

DATES: February 23, 2001, 9:00 a.m.-12:00 (noon).

ADDRESSES: Federal Communications Commission, 445 12th Street, SW, Commission Meeting Room, Washington, DC 20554.

FOR FURTHER INFORMATION CONTACT: Bonnie Gay, Federal Communications Commission, 445 12th Street, SW, Washington, DC 20554 (phone: (202) 418-1228) (fax: (202) 418-2817).

SUPPLEMENTARY INFORMATION: In 1994, the Federal Communications Commission (FCC) established the Emergency Alert System (EAS) to replace the Emergency Broadcast System (EBS). EAS uses various communications technologies, such as broadcast stations and cable systems, to alert the public regarding national, state and local emergencies. At the same time, the FCC added a new Part 11 to its rules containing EAS regulations. 47 CFR Part 11. The National Advisory Committee (NAC) was established to assist the FCC in administering EAS. Its fourth annual meeting will be held on February 23, 2001, in Washington, DC and the general topic will be emergency communication matters relating to EAS.

Summary of Proposed Agenda

—Registration

—Welcome, NAC Chair

—FCC Remarks

—Presentations by the National Weather Service and the Federal Emergency Management Agency

—FCC update on EAS actions

—Reports from NAC working groups

—Reports from the Society of Broadcast Engineers and the Society of Cable Telecommunications Engineers Working Groups and PEPAC

—NAC working group reports

—Future EAS requirements and NAC recommendations to FCC

—Other business

—Adjournment

Administrative Matters

Attendance at the NAC meeting is open to the public, but limited to space availability. Members of the general public may file a written statement with the FCC at the above contact address before or after the meeting. Members of the public wishing to make an oral statement during the meeting must consult with the NAC at the above FCC contact address prior to the meeting. Minutes of the meeting will be available after the meeting at the above contact address.

Federal Communications Commission.
Magalie Roman Salas,
Secretary.

[FR Doc. 01-1942 Filed 1-22-01; 8:45 am]

BILLING CODE 6712-01-P